DEPARTMENT OF DEFENSE

Department of the Air Force

Second Supplemental Record of Decision (ROD) for the Disposal of Portions of the Former Homestead Air Force Base (AFB), FL

On January 15, 2001, the Air Force signed the Second Supplemental ROD for Portions of the Former Homestead AFB. The ROD was developed based on consideration of the December 2000 Final Supplemental Environmental Impact Statement (SEIS), correspondence received by the Air Force, and other relevant factors.

The Air Force decided in the ROD to offer approximately 717 acres of surplus property to Miami-Dade County for mixed-use development, but will not allow construction of a commercial airport at the site. The Air Force will retain the runway and airfield areas at the former base for its own use. Those areas will continue to be maintained by the Air Force and used by the Air Force Reserve, the Florida Air National Guard, Customs Service, and other federal agencies.

If the county opts not to apply for the transfer or declines the surplus property, the Air Force then will act upon a request for the property from the Department of the Interior, which hopes to trade the land for other valuable property. This transaction also would be in support of mixed-use development of the Homestead property.

This decision struck a balance between the federal interests in economic development of realigned military bases and the protection of environmental values in two nearby national parks. Although this decision is a reversal of one made by the Air Force in 1994, the new decision sought to protect the County's interests by giving the County the first opportunity to accept the land for redevelopment. The County is the local redevelopment authority under the base closure laws, and offering the property to the County first reflects policy that local redevelopment authorities be given a central role in the determination of how base closure property is to be reused.

More details about the decision can be found in the Second Supplemental Record of Decision (ROD) for Disposal of Portions of the Former Homestead Air Force Base (AFB), Florida, which is available on request by contacting Mr. John Corradetti, Jr. Program Manager, Division A, Air Force Base Conversion Agency, 1700 N. Moore Street, Suite 2300, Arlington, VA 22209-2809. A copy can also be viewed electronically at http://www.denix.osd.mil/SEIS.

Janet A. Long,
Air Force Federal Register Liaison Officer.

[FR Doc. 01-4986 Filed 2-28-01; 8:45 am]

BILLING CODE 5001-05-U